DEPARTMENT OF THE INTERIOR

Bureau of Indian Affairs

Revision of Agency Information Collection for Financial Assistance and Social Services

AGENCY: Bureau of Indian Affairs, Interior.

ACTION: Notice of request for comments.

SUMMARY: The Bureau of Indian Affairs (BIA) is proposing to revise and submit to the Office of Management and Budget the information collection, titled “Financial Assistance & Social Services, 25 CFR 20.” The information collection is currently authorized by OMB Control Number 1076-0017, which expires March 31, 2012. The information collection requires applicants to provide information in support of their eligibility for BIA assistance and services and requires a subset of those applicants to complete an ISP in order to obtain General Assistance. Revisions include changes to the application form to address all five types of assistance authorized by 25 CFR part 20, a new standardized form for Individual Self-Sufficiency Plans (ISPs), and a new form for tribes to submit information on the amounts of financial assistance received in the prior year.

DATES: Interested persons are invited to submit comments on or before June 15, 2010.

ADDRESSES: You may submit comments on the information collection to Sue Settles, Chief, Division of Human Services, Office of Indian Services, Bureau of Indian Affairs, Department of the Interior, 1849 C Street, NW., Mail Stop 4513, Washington, DC 20240, facsimile: (202) 208-5113.

FOR FURTHER INFORMATION CONTACT: You may request further information or obtain copies of the information collection request submission from Sue Settles, telephone: (202) 513-7621.

SUPPLEMENTARY INFORMATION:

I. Abstract

The BIA is seeking to revise the information collection it conducts to provide assistance under 25 CFR part 20 to eligible Indians when comparable financial assistance or social services either are not available or not provided by State, tribal, county, local, or other Federal agencies. Approval for this collection expires March 31, 2012. The information collection allows BIA to determine whether an individual is eligible for assistance and services. This information collection is being revised to allow revisions to the Application to promote usefulness in obtaining needed client information. Specifically, the application form was revised to include all Financial Assistance and Social Service components including General Assistance, Child Assistance, Adult Care Assistance, Burial Assistance, and Emergency Assistance. The Application was also revised to be more user-friendly and assist in the eligibility determination process. In addition, the revised Application includes a case management tool for case workers. The case management tool is a breakdown of each Financial Assistance component to be utilized as a checklist of items to include in the case file, to check for during the application and intake process, and again during the eligibility determination. The checklist is a guide to 25 CFR part 20. The Application includes instructions on client appeal rights, the fraud statement, the appeal process, Paperwork Reduction Act and the Privacy Act. This information collection is also being revised to standardize the Individual Self-Sufficiency Plan (ISP) that is used for a subset of the General Assistance applicants. The standardized form will guide BIA and tribal case workers in obtaining information to develop the ISP with the client. The form will allow case workers to develop more meaningful and attainable goals through specific action steps. No third party notification or public disclosure burden is associated with this collection. BIA is requesting an increase in the estimated burden hours for this information collection to better account for the groups of respondents (applicants for any of the five types of assistance versus the subset of applicants requesting General Assistance), to better account for the time it takes respondents to complete the application and, where appropriate, provide information for an employability assessment and ISP.

II. Request for Comments

The BIA requests that you send your comments on this collection to the location listed in the ADDRESSES section. Your comments should address: (a) The necessity of the information collection for the proper performance of the agencies, including whether the information will have practical utility; (b) the accuracy of our estimate of the burden (hours and cost) of the collection of information, including the validity of the methodology and assumptions used; (c) ways we could enhance the quality, utility and clarity of the information to be collected; and (d) ways we could minimize the burden of the collection of the information on the respondents, such as through the use of automated collection techniques or other forms of information technology.

Please note that an agency may not sponsor or conduct, and an individual need not respond to, a collection of information unless it has a valid OMB Control Number. Approval for this collection expires March 31, 2012.

It is our policy to make all comments available to the public for review at the location listed in the ADDRESSES section during the hours of 9 a.m.-5 p.m., Eastern Time, Monday through Friday except for legal holidays. Before including your address, phone number, e-mail address or other personally identifiable information, be advised that your entire comment—including your personally identifiable information—may be made public at any time. While you may request that we withhold your personally identifiable information, we cannot guarantee that we will be able to do so.

III. Data

OMB Control Number: 1076-0017.

Title: Financial Assistance and Social Services, 25 CFR Part 20.

Brief Description of Collection: Submission of this information is required of Indian applicants of BIA financial assistance and social services. BIA uses the information to determine if an individual is eligible for services and, where appropriate, to conduct an employability assessment and jointly develop with the individual an Individual Self-Sufficiency Plan outlining how the individual can attain self-sufficiency. Response is required to obtain a benefit.

Type of Review: Revision of a currently approved collection.

Respondents: Individual Indians seeking financial assistance or social services from BIA.

Number of Respondents: 240,000 provide information on the application, and of those, 95,000 contribute information to an employability assessment and ISP.

Total Number of Responses: Once, on occasion.

Estimated Time per Response: 1.5 (0.5 hours for the application + 1 hour for the employability assessment and ISP).

Estimated Total Annual Burden: 215,000 hours ((240,000 × 0.5 hours for applications) + (95,000 × 1 hour for employability assessment and ISP)).

Dated: April 6, 2010.
Alvin Foster,
Acting Chief Information Officer—Indian Affairs.

[FR Doc. 2010-8799 Filed 4-15-10; 8:45 am]

BILLING CODE 4310-4J-P